DEPARTMENT OF EDUCATION

Final Priorities Notice

AGENCY: National Institute on Disability and Rehabilitation Research (NIDRR), Office of Special Education and Rehabilitative Services, Department of Education.

ACTION: Notice of final priorities.

SUMMARY: The Assistant Secretary for Special Education and Rehabilitative Services announces final priorities under the Rehabilitation Engineering Research Centers (RERCs) program for up to nine awards for the National Institute on Disability and Rehabilitation Research (NIDRR) for fiscal years (FYs) 2003 and later years. We take this action to focus research attention on areas of national need. We intend these priorities to improve the rehabilitation services and outcomes for individuals with disabilities.

EFFECTIVE DATE: These priorities are effective May 22, 2003.

FOR FURTHER INFORMATION CONTACT: Donna Nangle. Telephone: (202) 205-5880.

If you use a telecommunications device for the deaf (TDD), you may call the TDD number at (202) 205-4475 or via the Internet: donna.nangle@ed.gov.

Individuals with disabilities may obtain this document in an alternative format (e.g., Braille, large print, audiotape, or computer diskette) on request to the contact person listed under FOR FURTHER INFORMATION CONTACT.

SUPPLEMENTARY INFORMATION:

Description of Rehabilitation Engineering Research Centers

RERCs carry out research or demonstration activities by:

(a) Developing and disseminating innovative methods of applying advanced technology, scientific achievement, and psychological and social knowledge to (1) solve rehabilitation problems and remove environmental barriers and (2) study and evaluate new or emerging technologies, products, or environments and their effectiveness and benefits; or

(b) Demonstrating and disseminating (1) innovative models for the delivery of cost-effective rehabilitation technology services to rural and urban areas and (2) other scientific research to assist in meeting the employment and independent living needs of individuals with severe disabilities; or

(c) Facilitating service delivery systems change through (1) the development, evaluation, and dissemination of consumer-responsive and individual and family-centered innovative models for the delivery to both rural and urban areas of innovative cost-effective rehabilitation technology services and (2) other scientific research to assist in meeting the employment and independence needs of individuals with severe disabilities.

Each RERC must provide training opportunities, in conjunction with institutions of higher education and nonprofit organizations, to assist individuals, including individuals with disabilities, to become rehabilitation technology researchers and practitioners.

We make awards for up to 60 months through grants or cooperative agreements to public and private agencies and organizations, including institutions of higher education, Indian tribes, and tribal organizations, to conduct research, demonstration, and training activities regarding rehabilitation technology in order to enhance opportunities for meeting the needs of, and addressing the barriers confronted by, individuals with disabilities in all aspects of their lives. An RERC must be operated by or in collaboration with an institution of higher education or a nonprofit organization.

General RERC Requirements

The following requirements apply to each RERC pursuant to these absolute priorities unless noted otherwise. An applicant's proposal to fulfill these requirements will be assessed using applicable selection criteria in the peer review process.

Each RERC must have the capability to design, build, and test prototype devices and assist in the transfer of successful solutions to relevant production and service delivery settings. Each RERC must evaluate the efficacy and safety of its new products, instrumentation, or assistive devices.

Each RERC must develop and implement in the first three months of the grant a plan that describes how the center will include, as appropriate, individuals with disabilities or their representatives in all phases of center activities including research, development, training, dissemination, and evaluation.

Each RERC must develop and implement in the first year of the grant, in consultation with the NIDRR-funded National Center for the Dissemination of Disability Research (NCDDR), a plan to disseminate the RERC's research results to persons with disabilities, their representatives, disability organizations, service providers, professional journals, manufacturers, and other interested parties.

Each RERC must develop and implement in the first year of the grant, in consultation with the NIDRR-funded RERC on Technology Transfer or other entities as appropriate, a plan for ensuring that all new and improved technologies developed by this RERC are successfully transferred to the marketplace.

Each RERC must conduct a state-of-the-science conference on its respective area of research in the third year of the grant and publish a comprehensive report on the final outcomes of the conference in the fourth year of the grant.

Each RERC will be expected to coordinate on research projects of mutual interest with relevant NIDRR-funded projects as identified through consultation with the NIDRR project officer.

Centers of Excellence

RERCs are expected to function as Centers of Excellence, which are defined by their degree of accountability, level of productivity, integrity of internal activities, and the quality and relevance of outputs and outcomes. The NIDRR Centers of Excellence Model identifies four major areas of activity; these are: (1) Excellence in administration and evaluation; (2) excellence in scientific research and development; (3) excellence in capacity building and training for research and development and practice; and (4) excellence in relevance and productivity (including dissemination). Within these areas of activity, RERCs must develop consumer and industrial partnerships to ensure the relevance and appropriateness of research directions and to transfer research-generated knowledge into commercial products. Each RERC must operate as part of a national network and extend beyond the boundaries of their programmatic objectives to become leaders in their field, attract new research dollars, and significantly impact the education of professionals, consumers, and manufacturers. For information about NIDRR's Centers of Excellence Model, applicants are invited to visit the following Web site: http://www.cessi.net/pr/RERC/Summative/CoEmodel.html.

Program Review

RERCs are required to participate in NIDRR's program review process. Program review is a key element in NIDRR's quality assurance, performance monitoring, and evaluation systems, providing an opportunity for staff and key stakeholders to interact with grantees and provide feedback on center activities. As part of this evaluation system, NIDRR conducts both formative (early in the five-year funding cycle) and summative (toward the end of the fourth year) reviews. The overall goal of the formative review is to support grantees in achieving their planned results and becoming centers of excellence across the four major areas of activity. The overall goal of the summative review is to evaluate the quality, relevance, and productivity of each center's results and accomplishments. For more information about NIDRR's program review process, applicants are invited to visit the following Web site: http://www.cessi.net/pr).

In accordance with the provisions of 34 CFR 75.253(a), continued funding depends at all times on satisfactory performance and accomplishment.

These priorities reflect issues discussed in the New Freedom Initiative (NFI) and NIDRR's Long-Range Plan (the Plan). The NFI can be accessed on the Internet at: http://www.whitehouse.gov/news/freedominitiative/freedominiative.html.

The Plan can be accessed on the Internet at: http://www.ed.gov/offices/OSERS/NIDRR/Products.

We published a notice of proposed priorities for the Rehabilitation Engineering Research Centers (RERC) Program in the Federal Register on January 10, 2003 (67 FR 51744).

Except for minor revisions there are no significant differences between the notice of proposed priorities and this notice of final priorities.

Generally, we do not address technical and other minor changes and suggested changes the law does not authorize us to make under the applicable statutory authority.

In response to our invitation in the notice of proposed priorities 13 parties submitted comments. We fully explain changes made as a result of these comments in the Analysis of Comments and Changes published as an appendix to this notice.

Note: This notice does not solicit applications. In any year in which we choose to use this priority, we invite applications through a notice in the Federal Register. A notice inviting applications for FY 2003 awards is published elsewhere in this issue of the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the priority over an application of comparable merit that does not meet the priority (34 CFR 75.105(c)(2)(ii)).

Invitational priority: Under an invitational priority, we are particularly interested in applications that meet the invitational priority. However, we do not give an application that meets the priority a competitive or absolute preference over other applications (34 CFR 75.105(c)(1)).

Background

The Background statement for the following priorities was published in the notice of proposed priorities on January 10, 2003 (67 FR 1446).

Priorities

NIDRR intends to fund up to nine new RERCs in FY 2003. Applicants must select one of the following priority topic areas: (a) Hearing enhancement; (b) prosthetics and orthotics; (c) communication enhancement; (d) measurement and monitoring of functional performance; (e) technology access for land mine survivors; (f) universal interface and information technologies; (g) telerehabilitation; (h) accessible public transportation; (i) wheeled mobility; (j) cognitive technologies; and (k) technology transfer. Applicants are allowed to submit more than one proposal as long as each proposal addresses only one RERC topic area.

Letters of Intent

Due to the open nature of this competition, NIDRR is requiring all potential applicants to submit a Letter of Intent (LOI). Each LOI must be limited to a maximum of four pages and must include the following information:

(1) The title of the proposed RERC, the name of the host institution, the name of the Principal Investigator (PI), and the names of partner institutions and entities; (2) a brief statement of the vision, goals, and objectives of the proposed RERC and a description of its research and development activities at a sufficient level of detail to allow potential peer reviewers to be selected; (3) a list of proposed RERC staff including the center Director and key personnel; and (4) a list of individuals whose selection as a peer reviewer might constitute a conflict of interest due to involvement in proposal development, selection as an advisory board member, co-PI relationships, etc.

Submission of an LOI is a prerequisite for eligibility to submit an application. The signed, original LOI, or with prior approval an e-mail or facsimile copy, must be received by NIDRR no later than May 22, 2003. Applicants that submit e-mail or facsimile copies must follow up by sending to NIDRR the signed original copy as soon as possible. All communications pertaining to the LOI must be sent to: William Peterson, U.S. Department of Education, 400 Maryland Avenue, SW., room 3425, Switzer Building, Washington, DC 20202-2645. For further information regarding the LOI requirement, contact William Peterson at (202) 205-9192 or by e-mail at: william.peterson@ed.gov.

Priorities

The Assistant Secretary intends to fund up to nine RERCs that will focus on innovative technological solutions, new knowledge, and concepts to promote the health, safety, independence, employment, active engagement in daily activities, and quality of life of persons with disabilities. Each RERC must:

(1) Contribute substantially to the technical and scientific knowledge-base relevant to its respective subject area;

(2) Research, develop, and evaluate innovative technologies, products, environments, performance guidelines, and monitoring and assessment tools as applicable to its respective subject area;

(3) Identify, implement, and evaluate, in collaboration with the relevant industry, professional associations, and institutions of higher education, innovative approaches to expand research capacity in its respective field of study;

(4) Monitor trends and evolving product concepts that represent and signify future directions for technologies in its respective area of research; and

(5) Provide technical assistance to public and private organizations responsible for developing policies, guidelines, and standards that affect its respective area of research.

(6) Each RERC must focus on one of the following priority topic areas:

(a) Hearing Enhancement: This center must research and develop methods, systems, and technologies that will assist hearing professionals with the process of matching hearing technology to individuals with hearing loss and associated conditions such as tinnitus. This includes improving the compatibility of hearing enhancement technologies with various environments such as school, work, recreation, and social settings;

(b) Prosthetics and Orthotics: This center must increase understanding of the scientific and engineering principles pertaining to human locomotion, reaching, grasping, and manipulation, and incorporate those principles into the design and fitting of prosthetic and orthotic devices;

(c) Communication Enhancement: This center must research and develop augmentative and alternative communication technologies and strategies that will enhance the communicative capacity of individuals of all ages with significant communication disorders across environments (i.e., education, employment, recreation, social);

(d) Measurement and Monitoring of Functional Performance: This center must research and develop technologies and methods that effectively assess the outcomes of rehabilitation therapies by combining measurements of physiological performance with measures of functional performance;

(e) Technology Access for Land Mine Survivors: This center must address the unique rehabilitation needs of land mine survivors of all ages and develop low-cost replacement limbs, orthotics, and assistive technologies using indigenous materials and expertise from respective countries that will improve the quality of life for individuals who have been severely injured due to land mine explosions;

(f) Universal Interface and Information Technologies: This center must research and develop innovative technological solutions for, and promote universal access to, current and emerging information technologies and technology interfaces that promote a seamless integration of the multiple technologies used by individuals with disabilities in the home, the community, and the workplace. This center must work collaboratively with the RERC on Telecommunication Access, the RERC on Mobile Wireless Technologies, and the NIDRR-funded Information Technology Technical Assistance and Training Center;

(g) Telerehabilitation: This center must research and develop methods, systems, and technologies that support remote delivery of rehabilitation and home health care services for individuals who have limited local access to comprehensive medical and rehabilitation outpatient services;

(h) Accessible Public Transportation: This center must research and develop methods, systems, and devices that will promote and enhance the ability of people with disabilities to safely, comfortably, and efficiently identify destination information, embark/disembark, and use restroom facilities on various types of public transportation systems such as passenger trains and airplanes;

(i) Wheeled Mobility: This center must research and develop innovative technologies and strategies that will improve the current state of the science, design guidelines and performance standards, and usability of wheeled mobility devices and wheelchair seating systems;

(j) Cognitive Technologies: This center must research, develop, and evaluate innovative technologies and approaches that will have a positive impact on the way in which individuals with significant cognitive disabilities function independently within their communities and workplace; and

(k) Technology Transfer: This center must research and develop innovative ways to facilitate and improve the process of moving new, useful, and more effective assistive technology inventions and applications from the prototype phase to the marketplace. This center will be expected to provide technical assistance to all RERCs on issues pertaining to technology transfer, including the development of long-range technology transfer plans.

Executive Order 12866

This notice of final priorities has been reviewed in accordance with Executive Order 12866. Under the terms of the order, we have assessed the potential costs and benefits of this regulatory action.

The potential costs associated with the notice of final priorities are those resulting from statutory requirements and those we have determined as necessary for administering this program effectively and efficiently.

In assessing the potential costs and benefits—both quantitative and qualitative—of this notice of final priorities, we have determined that the benefits of the priorities justify the costs.

Summary of potential costs and benefits: The potential cost associated with these proposed priorities is minimal while the benefits are significant. Grantees may anticipate costs associated with completing the application process in terms of staff time, copying, and mailing or delivery. The use of e-Application technology reduces mailing and copying costs significantly.

The benefits of the Rehabilitation Engineering Research Centers program have been well established over the years in that similar projects have been completed. These priorities will generate new knowledge through a research, dissemination, utilization, and technical assistance projects.

The benefit of these priorities and application and project requirements will be the establishment of new health and function centers that support the President's NFI.

Applicable Program Regulations: 34 CFR part 350.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number: 84.133E, Rehabilitation Engineering Research Center Program)

Program Authority: 29 U.S.C. 762(g) and 764(b)(3).

Dated: April 16, 2003.
Robert H. Pasternack,
Assistant Secretary for Special Education and Rehabilitative Services.

Appendix

Analysis of Comments and Changes

Rehabilitation Engineering Research Centers

Comment: One commenter suggested that the Wheeled Mobility topic area would be strengthened if the phrase “design standards” were changed to “design guidelines and performance standards.”

Discussion: NIDRR agrees with the commenter that the Wheeled Mobility topic area would be strengthened by replacing the phrase “design standards” with “design guidelines and performance standards.”

Changes: The phrase “design standards” has been replaced with “design guidelines and performance standards.”

Comment: One commenter suggested that the RERC on Measurement and Monitoring of Functional Performance be required to incorporate issues that relate functional performance measurements to specific work tasks associated with the job or jobs a person performs or will be performing.

Discussion: An applicant could propose activities that relate functional performance measurements to specific work tasks associated with the job or jobs a person performs or will be performing. The peer review process will evaluate the merits of the proposal. However, NIDRR has no basis for requiring all applicants to propose these activities.

Changes: None.

Comment: One commenter suggested that the RERC on Technology Transfer be required to provide technical and financial resources to assist persons with disabilities who have developed assistive technology devices with bringing them to market.

Discussion: An applicant could propose activities to assist persons with disabilities who have developed assistive technology devices with bringing the devices to market. The peer review process will evaluate the merits of the proposal. However, NIDRR has no basis for requiring all applicants to propose these activities.

Changes: None.

Comment: One commenter suggested that the RERC on Technology Transfer be required to encourage large companies to incorporate the concept of universal design within their products, both current and future, so that persons with disabilities could use them.

Discussion: An applicant could propose activities to encourage large companies to incorporate the concept of universal design within their products. The peer review process will evaluate the merits of the proposal. However, NIDRR has no basis for requiring all applicants to propose these activities.

Changes: None.

Comment: One commenter suggested that the RERC on Technology Transfer be required to develop partnerships with venture capitalists to generate resources that could be used to assist small businesses in marketing their products.

Discussion: An applicant could propose activities to develop partnerships with venture capitalists to generate resources that could be used to assist small businesses in marketing their products. The peer review process will evaluate the merits of the proposal. However, NIDRR has no basis for requiring all applicants to propose these activities.

Changes: None.

Comment: One commenter suggested that the RERC on Technology Transfer be required to support other RERCs by providing small product development grants for products developed within the RERC family.

Discussion: There is no authority under the Rehabilitation Act for RERCs to provide subgrants. Therefore the activity suggested by the commenter is not an allowable activity.

Changes: None.

Comment: One commenter suggested that the RERC on Technology Transfer be required to involve underrepresented, minority high school, and undergraduate engineering and business students in the product evaluation process.

Discussion: NIDRR requires all RERCs funded under this priority to develop a plan that describes how the center will include, as appropriate, individuals with disabilities or their representatives in all phases of center activities including research, development, training, dissemination, and evaluation. An applicant could propose activities that go beyond these requirements to include minority high school students and undergraduate engineering and business students. The peer review process will evaluate the merits of the proposal. However, NIDRR has no basis for requiring all applicants to propose these activities.

Changes: None.

Comment: Two commenters suggested that the Cognitive Technologies topic area be expanded to include research and development activities pertinent to cognitive disabilities across the lifespan.

Discussion: An applicant could propose research and development activities pertinent to cognitive disabilities across the lifespan. The peer review process will evaluate the merits of the proposal. However, NIDRR has no basis for requiring these activities.

Changes: None.

Comment: Two commenters suggested that the RERC on Cognitive Technologies be required to seek additional financial support from outside foundations, such as the Coleman Colorado Foundation, that specifically focus on funding technology research pertinent to cognitive disability.

Discussion: An applicant could propose activities to seek additional financial support from outside foundations. The peer review process will evaluate the merits of the proposal. However, NIDRR has no basis for requiring all applicants to propose these activities.

Changes: None.

Comment: One commenter suggested that the RERC on Cognitive Technologies be required to include a research and development activity to develop “smart” residential living environments designed to augment the effectiveness of developmental disabilities direct support/personal assistance services.

Discussion: An applicant could propose activities to develop “smart” residential living environments designed to augment the effectiveness of developmental disabilities direct support/personal assistance services. The peer review process will evaluate the merits of the proposal. However, NIDRR has no basis for requiring all applicants to propose these activities.

Changes: None.

Comment: One commenter suggested that the RERC on Accessible Public Transportation be required to include activities that focus on technology to improve accessibility to bus and other public and private ground transportation systems, and integrating those technologies with residential and community living environments for people with cognitive disabilities.

Discussion: An applicant could propose research and development activities to improve accessibility to bus and other public and private ground transportation systems, and integrating those technologies with residential and community living environments for people with cognitive disabilities. The peer review process will evaluate the merits of the proposal. However, NIDRR has no basis for requiring all applicants to include these activities.

Changes: None.

Comment: One commenter suggested that the very nature of the RERC on Telerehabilitation requires it to focus on care providers and their patients rather than a more general consumer base.

Discussion: NIDRR agrees that care providers and their patients play an important role for this RERC. Others, including family members, allied health professionals, and points of service (e.g., hospitals, clinics, one's home, etc.) also play integral roles with respect to this topic area. This RERC will also need to stay in contact with representatives from the telecommunications industry, healthcare insurers, and healthcare policy makers.

Changes: None.

Comment: One commenter suggested that the Technology Access for Land Mine Survivors topic area and the Prosthetics and Orthotics topic area be combined so that the additional resources could be used for other topic areas not included in this priority.

Discussion: NIDRR believes the mission and intended target populations of these two topic areas are distinctly different even though both of them include the need to research and develop prosthetics and orthotics (P&O). One is expected to focus on improving the state of the science in the field of P&O while the other is expected to work within developing countries to improve the lives of land mine survivors using indigenous materials and expertise from respective countries. If the two were combined the RERC would be spread too thin thereby negatively affecting the center's ability to conduct quality research and development activities. If funded, the two centers will be expected to coordinate on research projects of mutual interest.

Changes: None.

[FR Doc. 03-9939 Filed 4-14-03; 8:45 am]

BILLING CODE 4000-01-P